COMMISSION ON CIVIL RIGHTS

Sunshine Act Notice

AGENCY: U.S. Commission on Civil Rights.

Date and Time: Friday, June 11, 2004, 9:30 a.m.

Place: U.S. Commission on Civil Rights, 624 9th Street, NW., Room 540, Washington, DC 20425.

Status:

Agenda

I. Approval of Agenda

II. Approval of Minutes of April 9, 2004 Meeting

III. Announcements

IV. Staff Director's Report

V. “Funding Federal Civil Rights Enforcement: 2005” Report

VI. “Ten Year Check-Up: Have Federal Agencies Responded to Civil Rights Recommendations? Volume IV: An Evaluation of the Departments of Education, Health and Human Services, and Housing and Urban Development, and the Equal Employment Opportunity Commission” Report

VII. Closing Meeting on Personnel matters

VIII. Future Agenda Items

FOR FURTHER INFORMATION CONTACT: Les Jin, Press and Communications (202) 376-7700.

Debra A. Carr,
Deputy General Counsel.

[FR Doc. 04-12956 Filed 6-3-04; 2:46 pm]

BILLING CODE 6335-01-M